DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coast Pilot Report.

OMB Control Number: 0648-0007.

Form Number(s): NOAA 77-6.

Type of Request: Regular submission (renewal of a current information collection).

Number of Respondents: 100.

Average Hours per Response: 30 minutes.

Burden Hours: 50.

Needs and Uses: This notice is for renewal of a current information collection.

NOAA produces the U.S. Coast Pilot, a series of nine books that supplement marine nautical charts. The Coast Pilot contains information essential to navigators in U.S. coastal and intra-coastal waters but that cannot be shown graphically on paper nautical charts. This publication is required by Federal Regulations (33 CFR 164.33) to be carried on-board all vessels of 1,600 gross tons and greater, while traversing U.S. waters. The Coast Pilot Report form is offered to the public as a means for recommending changes to the publication.

Affected Public: Individuals or households.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: November 18, 2010.
Gwellnar Banks,
Management Analyst, Office of the Chief Information Officer.

[FR Doc. 2010-29471 Filed 11-22-10; 8:45 am]

BILLING CODE 3510-JE-P